Executive Order 14317 of July 17, 2025

Creating Schedule G in the Excepted Service

By the authority vested in me as President by the Constitution and the laws of the United States of America, including sections 3301, 3302, and 7511 of title 5, United States Code, it is hereby ordered:

Section 1. Purpose. The Congress has recognized that effective Government administration requires excepting some positions from the competitive service based on their confidential, policy-determining, policy-making, or policy-advocating character. Existing excepted service schedules make partial use of this authority. Schedule C of the excepted service authorizes appointments to noncareer excepted service positions of a confidential or policy-determining character. Schedule Policy/Career of the excepted service authorizes appointments to career positions of a confidential, policy-determining, policy-making, or policy-advocating character.

There is, however, no excepted service schedule for noncareer positions of a policy-making or policy-advocating character. Pursuant to 5 U.S.C. 3302(1), conditions of good administration, including eliminating this gap in excepted service schedules and improving the operations of the Department of Veterans Affairs, make necessary creating a new Schedule G in the excepted service for noncareer positions of a policy-making or policy-advocating character.

Sec. 2. Definition. The phrase “normally subject to change as a result of a Presidential transition” refers to positions whose occupants are, as a matter of practice, expected to resign upon a Presidential transition and includes all positions whose appointment requires the assent of the White House Office of Presidential Personnel.

Sec. 3. Excepted Service. Appointments of individuals to positions of a policy-making or policy-advocating character normally subject to change as a result of a Presidential transition shall be made under Schedule G of the excepted service, as established by section 4 of this order.

Sec. 4. Schedule G. Civil Service Rule VI is amended as follows:

(a) 5 CFR 6.2 is amended to read:

“OPM shall list positions that it excepts from the competitive service in Schedules A, B, C, D, E, Policy/Career, and G, which schedules shall constitute parts of this rule, as follows:

Schedule A. Positions other than those of a confidential or policy-determining character for which it is not practicable to examine shall be listed in Schedule A.

Schedule B. Positions other than those of a confidential or policy-determining character for which it is not practicable to hold a competitive examination shall be listed in Schedule B. Appointments to these positions shall be subject to such noncompetitive examination as may be prescribed by OPM.

Schedule C. Positions of a confidential or policy-determining character normally subject to change as a result of a Presidential transition shall be listed in Schedule C.

Schedule D. Positions other than those of a confidential or policy-determining character for which the competitive service requirements make impracticable the adequate recruitment of sufficient numbers of students attending qualifying educational institutions or individuals who have recently completed qualifying educational programs. These positions, which are temporarily placed in the excepted service to enable more effective recruitment from all segments of society by using means of recruiting and assessing candidates that diverge from the rules generally applicable to the competitive service, shall be listed in Schedule D.

Schedule E. Positions of administrative law judge appointed under 5 U.S.C. 3105 shall be listed in Schedule E. Conditions of good administration warrant that the position of administrative law judge be placed in the excepted service and that appointment to this position not be subject to the requirements of 5 CFR, part 302, including examination and rating requirements, though each agency shall follow the principle of veteran preference as far as administratively feasible.

Schedule Policy/Career. Career positions of a confidential, policy-determining, policy-making, or policy-advocating character not normally subject to change as a result of a Presidential transition shall be listed in Schedule Policy/Career. In appointing an individual to a position in Schedule Policy/Career, each agency shall follow the principle of veteran preference as far as administratively feasible.

Schedule G. Positions of a policy-making or policy-advocating character normally subject to change as a result of a Presidential transition shall be listed in Schedule G.”

(b) 5 CFR 6.4 is amended to read:

“Except as required by statute, the Civil Service Rules and Regulations shall not apply to removals from positions listed in Schedules A, C, D, E, Policy/Career, or G, or from positions excepted from the competitive service by statute. The Civil Service Rules and Regulations shall apply to removals from positions listed in Schedule B of persons who have competitive status.”

Sec. 5. Implementation. (a) The Director of the Office of Personnel Management shall adopt such regulations as the Director determines may be necessary to implement this order, giving particular attention to appropriate amendments to 5 CFR, part 213.

(b) In making appointments to positions in Schedule G of the excepted service, the Secretary of Veterans Affairs:

(i) shall consider whether prospective appointees would be suitable exponents of the President's policies; and

(ii) shall not take into account prospective appointees' political affiliation or political activity.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Office of Personnel Management.

THE WHITE HOUSE,

July 17, 2025.

[FR Doc. 2025-13925

Filed 7-22-25; 11:15 am]

Billing code 6325-38-P